DEPARTMENT OF COMMERCE

International Trade Administration

[A-485-803]

Certain Cut-to-Length Carbon Steel Plate From Romania: Notice of Court Decision Not in Harmony With Final Results of Antidumping Duty Administrative Review

AGENCY: Import Administration, International Trade Administration, Department of Commerce.

SUMMARY: On November 7, 2007, the United States Court of International Trade (CIT) affirmed the final remand results made by the Department of Commerce (the Department) pursuant to the CIT's remand of the final results of antidumping duty administrative review of the antidumping order on certain cut-to-length carbon steel plate from Romania. See Mittal Steel Galati S.A., Formerly Known as Ispat Sidex S.A. v. United States, Slip Op. 07-110 (CIT) (July 18, 2007) (Mittal Steel). This case arises out of the Department's final results in the administrative review covering the period August 1, 2002, through July 31, 2003. See Certain Cut-to-Length Carbon Steel Plate from Romania: Final Results and Final Partial Rescission of Antidumping Duty Administrative Review, 70 FR 12651 (March 15, 2005), and accompanying Issues and Decision Memorandum (Final Results). The judgment in this case was not in harmony with the Department's Final Results.

DATES: Effective Date: November 23, 2007.

FOR FURTHER INFORMATION CONTACT: John Drury or Dena Crossland, AD/CVD Operations, Office 7, Import Administration, International Trade Administration, U.S. Department of Commerce, 14th Street and Constitution Avenue, NW., Washington, DC 20230; telephone: (202) 482-0195 or (202) 482-3362, respectively.

SUPPLEMENTARY INFORMATION: In Mittal Steel, the CIT remanded the underlying Final Results to the Department to re-examine its use of Filipino data to value limestone as well as the decision to value scrap as an input. The Department issued a draft redetermination on remand to interested parties for comment on September 21, 2007. No parties commented on the draft redetermination.

On October 1, 2007, the Department issued to the CIT its final remand results. In the final remand results, the Department provided an offset for scrap generated and re-used in the production process by Mittal Steel Galati S.A., formerly known as Ispat Sidex (Mittal), and reconsidered its valuation of the limestone input used to manufacture cut-to-length carbon steel plate for this proceeding. Thus, the Department recalculated the antidumping duty rate applicable to Mittal. On November 7, 2007, the CIT sustained the Department's final remand results. The recalculated margin for these final remand results is 7.29 percent.

In its decision in Timken Co., v. United States, 893 F.2d 337, 341 (Fed. Cir. 1990) (Timken), the United States Court of Appeals for the Federal Circuit (CAFC) held that, pursuant to section 516A(e) of the Tariff Act of 1930, as amended (the Act), the Department must publish a notice of a court decision that is not “in harmony” with a Department determination, and must suspend liquidation of entries pending a “conclusive” court decision. The CIT's decision in this case on November 7, 2007, constitutes a decision of the court that is not in harmony with the Department's Final Results. This notice is published in fulfillment of the publication requirements of Timken. Accordingly, the Department will continue the suspension of liquidation of the subject merchandise pending the expiration of the period of appeal or, if appealed, pending a final and conclusive court decision. In the event the CIT's ruling is not appealed or, if appealed, upheld by the CAFC, the Department will instruct U.S. Customs and Border Protection to revise the cash deposit rate covering the subject merchandise.

This notice is issued and published in accordance with section 516A(c)(1) of the Act.

Dated: November 16, 2007.
David M. Spooner,
Assistant Secretary for Import Administration.

[FR Doc. E7-22863 Filed 11-21-07; 8:45 am]

BILLING CODE 3510-DS-P